DEPARTMENT OF ENERGY

Agency Information Collection Extension

AGENCY: U.S. Department of Energy.

ACTION: Notice and request for comments.

SUMMARY: The Department of Energy (DOE), pursuant to the Paperwork Reduction Act of 1995, intends to extend for three years, an information collection package with the Office of Management and Budget (OMB) concerning printing and publishing activities. The collection package 1910-0100 is formerly known as the “Information Management” collection. Data collected under this package is used to ensure that the Department's information resources are properly managed. The Department of Energy is required to submit an annual report to the Joint Committee on Printing (JCP) regarding its printing activities. The Department reports on information gathered and compiled from its facilities nationwide on the usage of in-house printing and duplication facilities as well as all printing procedure from external vendors. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before April 18, 2005. If you anticipate difficulty in submitting comments within that period, contact the person listed below as soon as possible.

ADDRESSES: Written comments may be sent to:

Mary R. Anderson, ME-42, U.S. Department of Energy, 1000 Independence Avenue, SW., Washington, DC 20585; or by fax at (202) 586-5460 or by e-mail at Mary.Anderson@hq.doe.gov and to

Sharon A. Evelin, Director, IM-11/Germantown Bldg., U.S. Department of Energy, 1000 Independence Ave, SW., Washington, DC 20585-1290; or by fax at 301-903-9061 or by e-mail at sharon.evelin@hq.doe.gov.

FOR FURTHER INFORMATION CONTACT: Requests for additional information or copies of the information collection instrument and instructions should be directed to Mary R. Anderson at the address listed in ADDRESSES.

SUPPLEMENTARY INFORMATION: This package contains: (1) OMB No.: 1910-0100; (2) Package Title: Printing and Publishing Activities; (3) Type of Review: renewal; (4) Purpose: The collection of the data is a Joint Committee on Printing (JCP) requirement; (5) Respondents: 336; (6) Estimated Number of Burden Hours: 947.

Statutory Authority: Title V: Joint Committee on Printing Report Forms.

Issued in Washington, DC, on February 11, 2005.
Sharon A. Evelin,
Director, Records Management Division, Office of the Chief Information Officer.

[FR Doc. 05-3067 Filed 2-16-05; 8:45 am]

BILLING CODE 6450-01-P